DEPARTMENT OF LABOR

Employment and Training Administration

[TA-W-57,030]

Dorby Frocks, New York, NY; Dismissal of Application for Reconsideration

Pursuant to 29 CFR 90.18(C) an application for administrative reconsideration was filed with the Director of the Division of Trade Adjustment Assistance for workers at Dorby Frocks, New York, New York. The application contained no new substantial information which would bear importantly on the Department's determination. Therefore, dismissal of the application was issued.

TA-W-57,030; Dorby Frocks New York, New York (July 8, 2005)

Signed at Washington, DC this 8th day of July 2005.
Timothy Sullivan,
Director, Division of Trade Adjustment Assistance.

[FR Doc. E5-3839 Filed 7-19-05; 8:45 am]

BILLING CODE 4510-30-P